FEDERAL ELECTION COMMISSION

Sunshine Act Meeting Notice

PREVIOUSLY ANNOUNCED DATE AND TIME: Tuesday, October 18, 2005, 10 a.m. Meeting closed to the public. This meeting was rescheduled to Thursday, October 20, 2005, at 2:30 p.m.

* * * * *

DATE AND TIME: Tuesday, November 1, 2005 at 10 a.m.

PLACE: 999 E Street, NW., Washington, DC.

STATUS: This meeting will be closed to the public.

ITEMS TO BE DISCUSSED:

Compliance matters pursuant to 2 U.S.C. 437g.

Audits conducted pursuant to 2 U.S.C. 437g, 438(b), and Title 26, U.S.C.

Matters concerning participation in civil actions or proceedings or arbitration.

Internal personnel rules and procedures or matters affecting a particular employee.

* * * * *

DATE AND TIME: Thursday, November 3, 2005, at 10 a.m.

PLACE: 999 E Street, NW., Washington, DC (Ninth Floor).

STATUS: This meeting will be open to the public.

ITEMS TO BE DISCUSSED:

Correction and Approval of Minutes.

Advsory Opinion 2005-16: Fired Up! LLC, by counsel, Marc E. Elias and Brian G. Svoboda.

Advisory Opinion 2005-17; American Crystal Sugar Company and Red River Valley Sugarbeet Growers Association, by counsel, Jan Witold Baran.

Final Audit Report on the Jim Gerlach of Congress Committee.

Routine Administrative Matters.

FOR FURTHER INFORMATION CONTACT: Mr. Robert Biersack, Press Officer, Telephone: (202) 694-1220.

Darlene Harris,
Deputy Secretary of the Commission.

[FR Doc. 05-21579 Filed 10-25-05; 2:53 pm]

BILLING CODE 6715-01-M